DEPARTMENT OF THE INTERIOR

Bureau of Land Management

[LLNVW00000.L16100000.DQ0000. LXSS015F0000 241A; 12-08807; MO#4500073892; TAS: 14X5017]

Notice of Availability of the Winnemucca District Resource Management Plan and Record of Decision, Nevada

AGENCY: Bureau of Land Management, Interior.

ACTION: Notice.

SUMMARY: The Bureau of Land Management (BLM) announces the availability of the Record of Decision (ROD) for the Approved Resource Management Plan (RMP) for the Winnemucca District located in northern Nevada. The Nevada State Director signed the ROD on May 21, 2015, which constitutes the final decision of the BLM and makes the Approved RMP effective immediately.

ADDRESSES: Copies of the ROD/Approved RMP are available upon request from the Winnemucca District Manager, Bureau of Land Management, 5100 E. Winnemucca Blvd., Winnemucca, NV 89445 or via the Internet at http://www.blm.gov/nv/st/en/fo/wfo/blm_information/rmp.html. Copies of the ROD/Approved RMP are available for public inspection at the Winnemucca District at the above address.

FOR FURTHER INFORMATION CONTACT: Zwaantje Rorex, RMP Team Lead, telephone 775-623-1727; address 5100 E. Winnemucca Blvd., Winnemucca, Nevada 89445; email zrorex@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Winnemucca District RMP will replace the existing 1982 Sonoma-Gerlach and Paradise-Denio Management Framework Plans (MFPs) and one land use plan amendment titled the Paradise-Denio and Sonoma-Gerlach Management Framework Plan-Lands Amendment (January 1999). The RMP and associated EIS were developed using a collaborative planning process. Collaboration included working with nine cooperating agencies, development of alternatives utilizing a sub-group of the Sierra Front-Northwestern Great Basin Resource Advisory Council and input through coordination and consultation with Native American/Tribal interests. The RMP planning area encompasses approximately 7.2 million acres of public land administered by the Winnemucca District, located in Humboldt, Pershing, and parts of Lyon, Churchill and Washoe counties, Nevada. The RMP decision area does not include private lands, State lands, Indian Reservations, Federal lands not administered by BLM or lands within the Black Rock Desert-High Rock Canyon, Emigrant Trails National Conservation Area (NCA), except for administratively combining portions of two herd management areas (HMAs) into one HMA. The NCA is covered under the ROD and RMP for the Black Rock Desert-High Rock Canyon Emigrant Trails NCA and associated wilderness, and other contiguous lands in Nevada (July 2004). The RMP describes the actions and landscape-level conservation and management to meet desired resource goals and objectives for natural resources including wildlife habitat, sensitive and threatened or endangered species habitat, watersheds, and wild horses and burros. While the RMP contains some conservation management measures for the Greater Sage-Grouse habitats, the Nevada and Northeastern California Greater Sage-Grouse Plan Amendment and EIS will fully analyze applicable Greater-Sage Grouse conservation measures, consistent with BLM Instruction Memorandum No. 2012-044. The BLM expects to make a comprehensive set of decisions for managing Greater-Sage Grouse on lands administered by the Winnemucca District in the Record of Decision for the Nevada and Northeastern California Greater Sage-Grouse Plan Amendment and EIS. The RMP addresses protection and preservation of cultural resources, scenic values and management of recreation. Multiple uses, including livestock grazing, minerals, and lands and realty actions, are also addressed.

The proposed RMP/Final EIS was made available to the public on September 6, 2013 in 78 FR 54909. Nine valid protest letters were received and 21 issues were identified. No comments were received as a result of the Governor's consistency review. The Director's Protest Resolution Report is available from the Winnemucca District's RMP Web site at: http://www.blm.gov/nv/st/en/fo/wfo/blm_information/rmp.html.

As a result of resolving protest issues, the following changes were made to the final RMP: added language to management action for vegetation-riparian/wetlands (action VRW 1.1.1) to clarify adaptive management; included the Snowstorms Mountains-fence for HMA boundary adjustments in action WHB 1.2; clarified management action for cooperative agreements with livestock permittees in action LG 5.4; and corrected response to public comment in Appendix M regarding areas to be closed to livestock grazing within certain allotments. Other minor editorial modifications to provide further clarification of some of the decisions were made. Reformatting of the final RMP resulted in renumbering of some of the management actions, noted in the document itself. Clarifications on management actions and corrections regarding the analysis provided in the EIS are described in the ROD. These include actions pertaining to vegetation (range), fish and wildlife habitat, special status species habitat (specifically Greater Sage-Grouse), wild horse and burro, livestock grazing, and lands and realty.

During the development of the final RMP and ROD, the Pine Forest Range Wilderness was designated through the presidential approval of the National Defense Authorization Act (December 19, 2014) Public Law 113-291, section 3064. The ROD and RMP reflect changes to management actions based on this designation.

The EIS analyzed four alternatives: Alternative A (no action), Alternative B (use intensive), Alternative C (environmental protection), and Alternative D (the Preferred Alternative). The Preferred Alternative as described in the proposed RMP was selected in the ROD, with some minor clarifications based on protests. The ROD adopts the RMP's goals and objectives and management actions to reach those goals and objectives. The ROD does not directly implement any specific action. Future actions will be consistent with the management direction in the approved RMP and will be made through a future decision-making process, including appropriate environmental review. Examples of site-specific planning efforts for resource use activities are mine plans of operation or rangeland health assessments. The approved RMP provides for the development of future implementation plans for special recreation management areas, communication sites, acquired lands, and travel and transportation management.

The approved RMP also describes future step down plans for resource protection including rangeland health assessments, cultural and paleontological management plans, wild horse and burro herd management plans, and an invasive weed control plan.

Authority: 40 CFR 1506.6

Amy Lueders,
State Director, Nevada.

[FR Doc. 2015-12190 Filed 5-21-15; 8:45 am]

BILLING CODE 4310-HC-P